DEPARTMENT OF THE INTERIOR

Bureau of Land Management

[19X.LLAK930100 L510100000.ER0000]

Notice of Availability of the Ambler Road Draft Environmental Impact Statement, Alaska

AGENCY: Bureau of Land Management, Interior.

ACTION: Notice of availability.

SUMMARY: In accordance with the National Environmental Policy Act of 1969, as amended, and the Federal Land Policy and Management Act of 1976, as amended, the Bureau of Land Management (BLM) has prepared a Draft Environmental Impact Statement (EIS) for the Ambler Road and by this notice is announcing the opening of the comment period. The BLM is also announcing that it will be holding public meetings on the Draft EIS and subsistence-related hearings to receive comments on the Draft EIS and the project's potential to impact subsistence resources and activities.

DATES: To ensure that comments will be considered, the BLM must receive written comments on the Draft EIS within 45 days following the date the Environmental Protection Agency publishes its Notice of Availability of the Draft EIS in the Federal Register. The BLM will hold public meetings in: Alatna, Allakaket, Ambler, Anaktuvuk Pass, Anchorage, Bettles, Buckland, Coldfoot, Evansville, Fairbanks, Hughes, Huslia, Kiana, Kobuk, Kotzebue, Noatak, Noorvik, Selawik, Shungnak, Stevens Village, Tanana, Wiseman, Alaska and in Washington, DC. The dates, times, and locations of the meetings will be announced at least 15 days in advance through public notices, media releases, and/or mailings.

ADDRESSES: You may submit comments related to the Ambler Road Draft EIS by any of the following methods:

• Website: https://www.blm.gov/AmblerRoadEIS.

• Mail: Ambler Road DEIS Comments, BLM Fairbanks District Office, 222 University Avenue, Fairbanks AK 99709.

• Hand Deliver comments to: BLM, 222 University Avenue, Fairbanks, Alaska 99709.

FOR FURTHER INFORMATION CONTACT: Tina McMaster-Goering, Ambler Road EIS Project Manager, telephone: 907-271-1310; address: 222 West 7th Avenue, #13, Anchorage, Alaska 99513. You may also request to be added to the mailing list for the EIS. Documents pertaining to the Draft EIS may be examined at https://www.blm.gov/AmblerRoadEIS or at or at the BLM Alaska State Office, BLM Alaska Public Information Center (Public Room), 222 West 7th Avenue (First Floor), Anchorage, Alaska or the Fairbanks District Office, 222 University Avenue, Fairbanks, Alaska.

Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Bureau of Land Management has prepared the Ambler Road Draft EIS. The Draft EIS is in response to an application for an industrial road right-of-way (ROW) in north-central Alaska across federal public lands and other lands. The road would run from the existing Dalton Highway to the Ambler Mining District. The area involved lies south of the Brooks Range, north of the Yukon River, west of the Dalton Highway and east of the Purcell Mountains. The Alaska Industrial Development and Export Authority (AIDEA), a public corporation of the State of Alaska, is the applicant.

The purpose of the public comment period is to inform the public of the availability of the Draft EIS and solicit comments from the public. Information received during the public comment period will be used to develop the Final EIS.

Before including your address, phone number, email address, or other personal identifying information, be advised that your entire comment, including your identifying information, may be made publicly available at any time. While you may ask us in your comments to withhold your personal identifying information from public review, we cannot guarantee that we will be able to do so.

The BLM has worked with interested parties to develop a proposed action and alternatives consistent with the following criteria:

• The proposed project submitted by the applicant, AIDEA;

• Issues identified during public scoping, impacts and potential alternatives to be addressed; and

• Subsistence resources and users, as well as potential actions to minimize adverse impacts to subsistence in accordance with section 810 of the Alaska National Interest Lands Conservation Act (ANILCA).

Section 810 of ANILCA requires the BLM to evaluate the effects of the alternatives presented in the Draft EIS on subsistence activities, and to hold public hearings if it finds that any alternatives may significantly restrict subsistence users. The preliminary evaluation of subsistence impact indicates that certain alternatives analyzed in the Draft EIS and the associated cumulative impacts may significantly restrict subsistence uses. Therefore, the BLM will hold public hearings on subsistence resources and activities in conjunction with the public meeting on the Draft EIS in Alatna, Allakaket, Ambler, Anaktuvuk Pass, Bettles, Buckland, Coldfoot, Evansville, Hughes, Huslia, Kiana, Kobuk, Kotzebue, Noatak, Noorvik, Selawik, Shungnak, Stevens Village, Tanana, and Wiseman, Alaska.

Authority: 40 CFR 1506.6(b).

Ted A. Murphy,
Associate State Director, Alaska.

[FR Doc. 2019-18837 Filed 8-29-19; 8:45 am]

BILLING CODE 4310-JA-P